DEPARTMENT OF THE TREASURY

Submission for OMB Review; Comment Request

April 26, 2010.

The Department of the Treasury will submit the following public information collection requirement to OMB for review and clearance under the Paperwork Reduction Act of 1995, Public Law 104-13 on or after the publication date of this notice. A copy of the submission may be obtained by calling the Treasury Departmental Office Clearance Officer listed. Comments regarding this information collection should be addressed to the OMB reviewer listed and to the Treasury PRA Clearance Officer, Department of the Treasury, 1750 Pennsylvania Avenue, NW., Suite 11010, Washington, DC 20220.

Dates: Written comments should be received on or before June 1, 2010 to be assured of consideration.

Community Development Financial Institutions (CDFI) Fund

OMB Number: 1559-0032.

Type of Review: Reinstatement with change of a previously approved collection.

Title: BEA Program Award Report Form.

Form No.: CDFI 0002.

Description: The Fund implements the Bank Enterprise Award (BEA) Program that provides incentives to insured depository institutions to increase their support of CDFIs and their activities in economically distressed communities. Beginning in the FY 2009 funding round, the CDFI Fund will require that BEA awards be used for future CDFI support and community development activities as defined under the BEA Program regulations. An applicant receiving an award over $50,000 will be subject to new compliance and reporting requirements as part of the terms and conditions of the BEA Program Award Agreement.

Respondents: Private Sector: Businesses or other for-profits.

Estimated Total Burden Hours: 40 hours.

CDFI Fund Clearance Officer: Ashanti McCallum, Community Development Financial Institutions Fund, Department of the Treasury, 601 13th Street, NW., Suite 200 South, Washington, DC 20005; (202) 622-9018.

OMB Reviewer: Shagufta Ahmed, Office of Management and Budget, New Executive Office Building, Room 10235, Washington, DC 20503; (202) 395-7873.

Dawn D. Wolfgang,
Treasury PRA Clearance Officer.

[FR Doc. 2010-10162 Filed 4-29-10; 8:45 am]

BILLING CODE 4810-70-P